FEDERAL COMMUNICATIONS COMMISSION

Revised Sunshine Notice FCC To Hold Open Commission Meeting Thursday, February 5, 2009

February 4, 2009.

The Federal Communications Commission will hold an Open Meeting on Thursday, February 5, 2009, which is scheduled to commence at 2 p.m. in Room TW-C305, at 445 12th Street, SW., Washington, DC (See announcement dated January 29, 2009, 74 FR 6036, February 4, 2009).

• The meeting will include presentations and discussion by senior agency officials as well as industry, consumer groups and others involved in the Digital Television Transition.

• The purpose of the meeting is to educate and inform the Commission and the public about the status and issues involved with the upcoming Digital Television Transition.

Agenda and list of witnesses follows:

2 p.m. Opening Statements by Chairman and Commissioners

2:15 p.m. Panel 1: DTV Consumer Outreach

Cathy Seidel, Chief of the Consumer and Governmental Affairs Bureau, FCC

Tony Wilhelm, Consumer Education Director, National Telecommunications and Information Administration

Mark Lloyd, Vice President for Strategic Initiatives, Leadership Conference on Civil Rights and Leadership Conference on Civil Rights Education Fund

Sandy Markwood, Chief Executive Officer, National Association of Area Agencies on Aging

3 p.m. Panel 2: DTV Call Centers

Andrew Martin, Chief Information Officer, Federal Communications Commission

Sam Howe, Executive Vice President, Time Warner Cable

David Rehr, President and CEO, National Association of Broadcasters

Dennis Lyle, President, National Alliance of State Broadcasters Associations

3:45 p.m. Panel 3: Reception Issues and Analog Nightlight

Julius Knapp, Chief of Office of Engineering and Technology, FCC

David Donovan, President, MSTV

Joel Kelsey, Policy Analyst, Consumers Union

Michael Petricone, Senior Vice President, Government Affairs, Consumer Electronics Association

4:30 p.m. Closing Statements/Adjournment

The meeting site is fully accessible to people using wheelchairs or other mobility aids. Sign language interpreters, open captioning, and assistive listening devices will be provided on site. Other reasonable accommodations for people with disabilities are available upon request. Include a description of the accommodation you will need. Also include a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
Marlene H. Dortch,
Secretary.

[FR Doc. E9-2752 Filed 2-5-09; 4:15 pm]

BILLING CODE 6712-01-P